DEPARTMENT OF TRANSPORTATION

Coast Guard

[USCG-2002-11687]

Chemical Transportation Advisory Committee

AGENCY: Coast Guard, DOT.

ACTION: Notice of meeting.

SUMMARY: The Chemical Transportation Advisory Committee (CTAC) and its subcommittees will meet to discuss various issues relating to the marine transportation of hazardous materials in bulk. All meetings will be open to the public.

DATES: CTAC will meet on Wednesday, March 27, 2002, from 9 a.m. to 3:30 p.m. The Subcommittee on Vessel Cargo Tank Overpressurization will meet on Monday, March 25, 2002, from 9 a.m. to 3:30 p.m. The Subcommittee on Hazardous Substance Response Standards will meet on Tuesday, March 26, 2002, from 9 a.m. to 3:30 p.m. These meetings may close early if all business is finished. Written material and requests to make oral presentations should reach the Coast Guard on or before March 20, 2002. Requests to have a copy of your material distributed to each member of the Subcommittee should reach the Coast Guard on or before March 20, 2002.

ADDRESSES: CTAC will meet at Houston Marriott, West Loop—by the Galleria, 1750 West Loop South, Houston, TX. The Subcommittee on Vessel Cargo Tank Overpressurization will meet at Stolt-Nielsen Transportation Group Ltd., 15635 Jacintoport Blvd., Houston, TX. The Subcommittee on Hazardous Substance Response Standards will meet at Marathon Tower, 5555 San Felipe St., Houston, TX. Send written material and requests to make oral presentations to Commander James M. Michalowski, Executive Director of CTAC, Commandant (G-MSO-3), U.S. Coast Guard Headquarters, 2100 Second Street SW, Washington, DC 20593-0001. This notice is available on the Internet at http://dms.dot.gov.

FOR FURTHER INFORMATION CONTACT: Commander James M. Michalowski, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of Meetings

Chemical Transportation Advisory Committee:

(1) Introduction of Committee members and attendees.

(2) Progress Reports from the Prevention Through People, Hazardous Substances Response Standards, and Vessel Cargo Tank Overpressurization Subcommittees.

(3) Presentations on issues related to the marine transportation of hazardous materials in bulk including a final report on the COI Pilot Program.

(4) Update of Coast Guard Regulatory Projects and IMO Activities.

Subcommittee on Vessel Cargo Tank Overpressurization:

(1) Introduction of Subcommittee members and attendees.

(2) Brief review of Subcommittee tasking and desired outcome.

(3) Continue work to complete long-term task.

Subcommittee on Hazardous Substances Response Standards:

(1) Introduction of Subcommittee members and attendees.

(2) Brief review of Subcommittee tasking and desired outcome.

(3) Continue work to develop the Response Planning Guidelines for Hazardous Substance Responder Capabilities in the Marine Environment.

Procedural

All meetings are open to the public. Please note that the meetings may close early if all business is finished. At the discretion of the Subcommittee Chairs, members of the public may make oral presentations during the meetings. If you would like to make an oral presentation at a meeting, please notify the Executive Director and submit written material on or before March 20, 2002. If you would like a copy of your material distributed to each member of the Committee or a Subcommittee in advance of a meeting, please submit 25 copies to the Executive Director (see addresses) no later than March 20, 2002.

Information on Services for Individuals With Disabilities

For information on facilities or services for individuals with disabilities, or to request special assistance at the meeting, telephone the Executive Director at 202-267-0087 as soon as possible.

Dated: February 26, 2002.
Joseph J. Angelo,
Director of Standards, Marine Safety and Environmental Protection.

[FR Doc. 02-5467 Filed 3-6-02; 8:45 am]

BILLING CODE 4910-15-P